DEPARTMENT OF HEALTH AND HUMAN SERVICES

Centers for Disease Control and Prevention

[Program Announcement 04010]

Programs To Improve the Health, Education, and Well-Being of Young People; Notice of Availability of Funds Amendment

A notice announcing the availability of fiscal year (FY) 2004 funds for cooperative agreements for Programs to Improve the Health, Education, and Well-Being of Young People was published in the Federal Register on October 8, 2003, Volume 68, Number 195, pages 58103-58110. The notice is amended as follows:

On page 58109, Column 3, Section I. “Other Requirements”, section 3, Financial Status Report, delete “Within 90 days after the end of the entire two-year project period (by August 14, 2005) and replace with “Within 90 days after the end of the entire two-year project period (by August 14, 2006).

In addition, a summary of program announcement 04010, Programs to Improve the Health, Education, and Well-Being of Young People, was published in the Federal Register on October 7, 2003. This notice is amended as follows: On page 57998, column 1, delete Program Contact information. On page 57998, column 1, estimated project period, delete three years and replace with two years. Also on page 57998, column 1, project award date, delete March 15 and replace with May 15.

Dated: October 15, 2003.
Edward Schultz,
Acting Director, Procurement and Grants Office, Centers for Disease Control and Prevention.

[FR Doc. 03-26473 Filed 10-20-03; 8:45 am]

BILLING CODE 4163-18-P